DEPARTMENT OF TRANSPORTATION

Federal Highway Administration

Environmental Impact Statement: Madison, Stanton, Wayne, Dixon, and Dakota Counties, NE

AGENCY: Federal Highway Administration (FHWA), DOT.

ACTION: Notice of Intent.

SUMMARY: The FHWA is issuing this notice to advise the public that an Environmental Impact Statement will be prepared for a proposed highway project in Madison, Stanton, Wayne, Dixon and Dakota Counties, Nebraska.

FOR FURTHER INFORMATION CONTACT: Mr. Edward Kosola, Realty/Environmental Officer, Federal Highway Administration, Federal Building, Room 220, 100 Centennial Mall North, Lincoln, Nebraska 68508, Telephone: (402) 437-5765. Mr. Arthur Yonkey, Planning and Project Development Engineer, Nebraska Department of Roads, P.O. Box 94759, Lincoln, Nebraska 68509, Telephone: (402) 479-4795.

SUPPLEMENTARY INFORMATION: The FHWA, in cooperation with the Nebraska Department of Roads, will prepare an Environmental Impact Statement (EIS) for a proposal to improve Highway N-35 in northeast Nebraska in Madison, Stanton, Wayne, Dixon and Dakota Counties. The proposed improvements to N-35 will provide a four-lane highway between Norfolk and South Sioux City, Nebraska, for a distance of about 70 miles. Existing N-35 is a two-lane rural highway generally following the county road grid and is not conducive to longer distance through traffic.

Alternatives under consideration include: (1) Taking no action; (2) reconstruction of N-35 on existing alignment; and (3) providing a four-lane highway on new alignment.

An agency scoping meeting and a public scoping/information meeting are planned. A Draft EIS will be prepared and a public hearing will be held. Public notice will be given of the public scoping/information meeting and public hearing.

To ensure that the full range of issues related to this proposed action are addressed and all significant issues identified, comments and suggestions are invited from all interested parties. Comments or questions concerning this proposed action and the EIS should be directed to the FHWA or the Nebraska Department of Roads at the address provided.

(Catalog of Federal Domestic Assistance Project Number 20.205, Highway Planning and Construction. The regulations implementing Executive Order 12372 regarding intergovernmental consultation on Federal programs and activities apply to this program.)

Issued on: February 26, 2002.
Edward Kosola,
Realty/Environmental Officer, Nebraska Division, Federal Highway Administration, Lincoln, Nebraska.

[FR Doc. 02-5086 Filed 3-1-02; 8:45 am]

BILLING CODE 4910-22-M